DELAWARE RIVER BASIN COMMISSION

Notice of Commission Meeting and Public Hearing

Notice is hereby given that the Delaware River Basin Commission will hold an informal conference followed by a public hearing on Wednesday, July 13, 2011. The hearing will be part of the Commission's regularly scheduled business meeting. The conference session and business meeting both are open to the public and will be held at the Commission's office building, located at 25 State Police Drive, West Trenton, New Jersey.

The morning conference session will begin at 11 a.m. and will consist of a presentation by Professor Gerald F. Kauffman of the University of Delaware on the economic value of the Delaware River and Bay and a presentation by Bethany Bearmore of the National Marine Fisheries Service on the natural resource damages settlement in the matter of the Athos I oil spill of November 26, 2004.

The subjects of the public hearing to be held during the 1:30 p.m. business meeting include the dockets listed below.

1. Spring City Borough, D-1974-061 CP-3. An application to renew the approval to discharge up to 0.345 million gallons per day (mgd) of treated effluent through existing Outfall No. 001 from the 0.6 mgd Spring City Borough Wastewater Treatment Plant (WWTP). The existing WWTP will continue to discharge to the Schuylkill River at River Mile 92.47—41.3 (Delaware River—Schuylkill River) in Spring City Borough, Chester County, Pennsylvania.

2. Ambler Borough, D-1975-016 CP-3. An application to renew the approval to discharge up to 8.0 mgd (monthly maximum flow) and up to 6.5 mgd (annual average flow) of treated effluent from the Ambler Borough WWTP. The existing WWTP will continue to discharge to the Wissahickon Creek, a tributary of the Schuylkill River. The facility is located in Upper Dublin Township, Montgomery County, Pennsylvania.

3. Robeson Township, D-1983-034 CP-2. An application to update the approval of the existing 0.30 mgd Robeson Township WWTP. An NAR for this application was published under docket number D-2010-031 CP-1 on November 3, 2010. The Commission originally approved the WWTP by Docket No. D-1983-034 CP-1 issued on September 25, 1984. Docket D-1983-034 CP-2 would update that approval. No modification to the Robeson Township WWTP is proposed. The Robeson Township WWTP will continue to discharge treated wastewater effluent to the Schuylkill River. The facility is located in Robeson Township, Berks County, Pennsylvania.

4. Buck Hill Falls Company, D-2009-001 CP-2. An application to renew the discharge of up to 0.20 mgd of treated effluent from existing Outfall No. 001 at the Buck Hill Falls WWTP. The existing WWTP discharges to Buck Hill Creek, a tributary of the Delaware River, at River Mile 213.00—21.11—0.50 (Delaware River—Brodhead Creek—Buck Hill Creek) within the drainage area of the portion of the non-tidal Delaware River known as the Middle Delaware, which is classified as Special Protection Waters. The project WWTP is located in Barrett Township, Monroe County, Pennsylvania.

5. SPS Technologies, D-1979-088-5. An application for the renewal of a groundwater withdrawal (GWD) project to continue the withdrawal of 8.89 million gallons per month (mgm) to supply the applicant's manufacturing plant from existing Well No. 7 completed in the Wissahickon Formation. The project is located in the Upper Reach Frankfort Creek Watershed in Abington Township, Montgomery County, Pennsylvania within the Southeastern Pennsylvania Ground Water Protected Area.

6. Big Boulder Corporation, D-1985-025-2. An application for the expansion of the Big Boulder Ski Area WWTP from 0.225 mgd to 0.265 mgd. The project WWTP will discharge 0.04 mgd to absorption beds located on-site and will continue to discharge 0.225 mgd directly to an unnamed tributary of Tunkhannock Creek at River Mile 183.66—83.5—5.6—2.5—0.64 (Delaware River—Lehigh River—Tobyhanna Creek—Tunkhannock Creek—Unnamed Tributary) in Kidder Township, Carbon County, Pennsylvania. The project WWTP is located in the drainage area of the section of the non-tidal Delaware River known as the Lower Delaware, which is classified as Special Protection Waters.

7. Morrisville Borough, D-1987-008 CP-2. An application for approval to renew a discharge of 7.1 mgd from the existing Morrisville Borough Municipal Authority (MBMA) WWTP. MBMA also has requested approval to accept and treat up to 0.2 mgd of pre-treated landfill leachate from Waste Management Inc.'s (WMI's) GROWS/Tullytown landfills. The DRBC approved a pilot program in 2005 (Docket No. D-1988-54-2) that allowed WMI to send up to 0.025 mgd of pre-treated leachate to be treated and discharged from the MBMA WWTP. The pilot program was expanded to 0.07 mgd on May 18, 2007. Additionally, MBMA has requested an increase in its wasteload allocation for CBOD20 from 2,418 lbs/day to 3,831 lbs/day and a determination to allow discharge at an effluent color limit greater than the Commission's standard of 100 units on the platinum cobalt scale. The WWTP is located in Morrisville Borough, Bucks County, Pennsylvania and discharges to the tidal Delaware River in Water Quality Zone 2 at River Mile 133.0.

8. Lansdale Borough, D-1996-045 CP-2. An application to approve an expansion of the service area of the existing Borough of Lansdale WWTP. The project also proposes to increase the permitted annual average flow rate from 2.6 to 3.2 mgd. The service area modification includes the acceptance of up to 1,000,000 gpd of pre-treated industrial wastewater, not to exceed a monthly average flow of 750,000 gpd, from the Merck West Point pharmaceutical facility located in Upper Gwynedd Township, Pennsylvania. No modification of the treatment facilities or increase in hydraulic design flow is proposed. The WWTP will continue to discharge to an unnamed tributary of the West Branch Neshaminy Creek, which is a tributary of the Neshaminy Creek. The project is located in Upper Gwynedd Township and the Borough of Lansdale in Montgomery County, Pennsylvania.

9. Pennsylvania American Water Company—Lexington Woods, D-1998-016 CP-3. An application for approval of a GWD project to supply up to 2.23 mgm of water to the applicant's Pocono District public water supply system from existing Lexington Well No. 2 for emergency and back-up water supply. The total GWD allocation from all 17 system wells will remain limited to 63.55 mgm. Lexington Well No. 2 is completed in the Catskill Formation and is located in the Clear Run Watershed in Coolbaugh Township, Monroe County, Pennsylvania. The site is located within the drainage area of the section of the non-tidal Delaware River known as the Lower Delaware, which is classified as Special Protection Waters.

10. CB Mid-Atlantic Golf Club, LLC, D-1999-036-2. An application for the renewal of a GWD project and to increase from 2.95 mgm to 4.75 mgm the withdrawal from existing Wells Nos. IW-1 and IW-2 in the Cockeysville Marble Formation for irrigation of the applicant's golf course. The increased groundwater allocation is requested in order to avoid the need for water purchases or use of approved surface water withdrawals from Broad Run Creek. The project is located in the West Branch Brandywine-Broad Run Watershed in West Bradford Township, Chester County, Pennsylvania, within the Southeastern Pennsylvania Ground Water Protected Area.

11. Borough of Dublin, D-2000-011 CP-2. An application for the renewal of a GWD project to continue a withdrawal of up to 6.9 million gallons per 30 days (mg/30 days) to supply the applicant's public water supply from existing Wells Nos. 1, 2, 3, and 5 in the Lockatong Formation and Brunswick Group. The project is located in the East Branch Perkiomen—Morris Run and Tohickon Deep Run watersheds in the Borough of Dublin, Bucks County, Pennsylvania, within the Southeastern Pennsylvania Ground Water Protected Area.

12. Blue Mountain Ski Area/Tuthill Corporation & Acquashicola-Little Gap, D-2010-026-1. An application for approval of a surface water withdrawal (SWWD) and GWD project to withdraw up to 300 million gallons of water annually from November through March from two existing surface water intakes located on Aquashicola Creek for the purpose of snow-making. Additionally, this project approves the allocation of 1.49 mgm from Wells Nos. 1 and 2 to supply the ski area with potable water. The existing project withdrawals were not previously approved by the Commission. The project is located in the Aquashicola Creek Watershed in Lower Towamensing Township, Carbon County, Pennsylvania. The site is located within the drainage area of the section of the non-tidal Delaware River known as the Lower Delaware, which is classified as Special Protection Waters.

13. Lakeview Estates Homeowners Association, D-2010-032 CP-1. An application for approval of the existing Lakeview Estates WWTP, for which the Commission has not previously issued a docket. The WWTP will continue to discharge up to 54,000 gallons per day (gpd) of treated sewage effluent to an unnamed tributary of the Lehigh River. The facility is located in Lehigh Township, Wayne County, Pennsylvania within the section of the non-tidal Delaware River known as the Lower Delaware, which is classified as Special Protection Waters.

14. Aqua Pennsylvania, Inc., D-2010-042 CP-1. An application for approval of a GWD project to supply up to 6.95 mgm of water to the applicant's public water supply system from new Well No. 1A and existing Wells Nos. 1, 2, 3A, 3B and 8. The project wells are completed in the Catskill Formation and are located in the Kleinhans and Wallenpaupack creeks watersheds in Palmyra Township, Pike County, Pennsylvania. The project is located within the drainage area of the section of the non-tidal Delaware River known as the Upper Delaware, which is classified as Special Protection Waters.

15. Bethany Children's Home, D-2010-043-1. An application for approval of a GWD and exportation project to supply up to 6.0 mgm of water for bottled water operations from new Wells Nos. PW-A and PW-B. Withdrawn water will be exported from the Delaware River Basin to the DS Waters bottling facility in Ephrata, Pennsylvania, within the Susquehanna River Basin. The project wells are completed in the Epler Formation and are located in the Tulpehocken Watershed in Heidelberg Township, Berks County, Pennsylvania.

16. Covanta Delaware Valley Resource Recovery Facility, D-2011-003 CP-1. An application to approve Covanta Delaware Valley, LP's Delaware Valley Resource Recovery Facility (DVRRF), which derives energy from waste, and the subsidiary water allocation for the facility of up to 62.372 mgm from the Chester Water Authority (CWA). Additionally, the applicant seeks approval to construct an influent pipeline and related polishing treatment facility that will accept up to 62.372 mgm of treated wastewater effluent from the Delaware County Regional Water Quality Control Authority (DELCORA) WWTP located nearby, in order to provide a new source of water for the DVRRF. The applicant is seeking approval to continue to use a combined total of 62.372 mgm from the two sources. The water is used for cooling purposes associated with power generation. The DVRRF is located in Chester City, Delaware County, Pennsylvania.

17. Upper Gwynedd Township, D-2011-011 CP-1. An application for approval to construct a pump station and associated sewerage interceptor and force main, to be owned and operated by Upper Gwynedd Township, for the purpose of conveying wastewater from the Merck West Point pharmaceutical facility located in Upper Gwynedd Township to the Lansdale Borough WWTP. The applicant proposes to construct a pump station, 3,260 linear foot gravity sewer interceptor, and 8-inch ductile iron pipe force main. The pump station and associated interceptor and force main will be designed to convey up to 1,000,000 gpd of pre-treated industrial wastewater, not to exceed a monthly average flow of 750,000 gpd, from the Merck West Point pharmaceutical facility (also located in Upper Gwynedd Township) to the Lansdale Borough WWTP for treatment and discharge to the West Branch Neshaminy Creek, a tributary of the Neshaminy Creek. A separate application has been filed concurrently by the Borough of Lansdale (see DRBC Application No. D-1996-045 CP-2) for approval to revise its service area and to accept the additional flow. The proposed facilities are to be located in Upper Gwynedd Township, Montgomery County, Pennsylvania.

In addition to the standard business meeting items, consisting of adoption of the Minutes of the Commission's May 11, 2011 business meeting, announcements of upcoming meetings and events, a report on hydrologic conditions, reports by the Executive Director and the Commission's General Counsel, and public dialogue, the business meeting also will include a public hearing on a proposed resolution amending Resolution No. 2010-11 to increase the authorized amount of the Commission's contract for management of comments received on a proposed rulemaking concerning natural gas development.

The Commission will NOT consider action during its July 13, 2011 meeting on draft Docket No. D-2010-022-1, a proposed surface water withdrawal from Oquaga Creek in Sanford, Broome County, New York by XTO Energy for natural gas exploration and development projects. Public hearings on this item took place on May 11, 2011 in West Trenton, New Jersey and June 1, 2011 in Deposit, New York. The Commissioners and staff currently are reviewing the written and oral comments submitted on the draft docket by members of the public.

Draft dockets scheduled for public hearing on July 13, 2011 can be accessed through the Notice of Commission Meeting and Public Hearing on the Commission's Web site, http://www.drbc.net, ten days prior to the meeting date. Additional public records relating to the dockets may be examined at the Commission's offices. Please contact William Muszynski at 609-883-9500, extension 221, with any docket-related questions.

Note that conference items are subject to change and items scheduled for hearing are occasionally postponed to allow more time for the Commission to consider them. Please check the Commission's Web site, http://www.drbc.net, closer to the meeting date for changes that may be made after the deadline for filing this notice.

Individuals who wish to comment for the record on a hearing item or to address the Commissioners informally during the public dialogue portion of the meeting are asked to sign up in advance by contacting Ms. Paula Schmitt of the Commission staff, at paula.schmitt@drbc.state.nj.us or by phoning Ms. Schmitt at 609-883-9500 ext. 224.

Individuals in need of an accommodation as provided for in the Americans with Disabilities Act who wish to attend the informational meeting, conference session or hearings should contact the Commission Secretary directly at 609-883-9500 ext. 203 or through the Telecommunications Relay Services (TRS) at 711, to discuss how the Commission can accommodate your needs.

Dated: June 28, 2011.
Pamela M. Bush,
Commission Secretary.

[FR Doc. 2011-16716 Filed 7-1-11; 8:45 am]

BILLING CODE 6360-01-P